DEPARTMENT OF ENERGY

Federal Energy Regulatory Commission

Combined Notice of Filings #1

Take notice that the Commission received the following electric corporate filings:

Docket Numbers: EC11-62-000.

Applicants: Evergreen Wind Power III, LLC, Evergreen Gen Lead, LLC.

Description: Application of Evergreen Wind Power III, LLC, and Evergreen Gen Lead, LLC.

Filed Date: 04/06/2011.

Accession Number: 20110406-5145.

Comment Date: 5 p.m. Eastern Time on Wednesday, April 27, 2011.

Take notice that the Commission received the following electric rate filings:

Docket Numbers: ER10-3323-002.

Applicants: Indeck-Olean Limited Partnership.

Description: Indeck-Olean Limited Partnership submits tariff filing per 35: Indeck-Olean Compliance File Baseline FERC Electric MBR Tariff No. 1 to be effective 9/30/2010.

Filed Date: 04/06/2011.

Accession Number: 20110406-5014.

Comment Date: 5 p.m. Eastern Time on Wednesday, April 27, 2011.

Docket Numbers: ER10-3326-002.

Applicants: SESCO Enterprises LLC.

Description: SESCO Enterprises LLC submits tariff filing per 35: SESCO Enterprises, LLC Comp Filing to baseline FERC Electric Tariff Sched No. 1 to be effective 9/30/2010.

Filed Date: 04/06/2011.

Accession Number: 20110406-5026.

Comment Date: 5 p.m. Eastern Time on Wednesday, April 27, 2011.

Docket Numbers: ER10-3328-002.

Applicants: SESCO Enterprises Canada Ltd.

Description: SESCO Enterprises Canada Ltd. submits tariff filing per 35: SESCO Enterpr Comp Filing to Baseline FERC Elec Tariff Sched No. 1 to be effective 9/30/2010.

Filed Date: 04/06/2011.

Accession Number: 20110406-5015.

Comment Date: 5 p.m. Eastern Time on Wednesday, April 27, 2011.

Docket Numbers: ER11-5-002.

Applicants: Great Bay Energy, LLC.

Description: Great Bay Energy, LLC submits tariff filing per 35: Great Bay Energy Compliance File Baseline FERC Electric Tariff Schedule No. 1 to be effective 9/30/2010.

Filed Date: 04/06/2011.

Accession Number: 20110406-5055.

Comment Date: 5 p.m. Eastern Time on Wednesday, April 27, 2011.

Docket Numbers: ER11-2580-002.

Applicants: ISO New England Inc.

Description: ISO New England Inc. submits tariff filing per 35: Tie Benefits Compliance Filing to be effective 3/1/2011.

Filed Date: 04/06/2011.

Accession Number: 20110406-5061.

Comment Date: 5 p.m. Eastern Time on Wednesday, April 27, 2011.

Docket Numbers: ER11-2642-001.

Applicants: FPL Energy South Dakota Wind, LLC.

Description: FPL Energy South Dakota Wind, LLC submits tariff filing per 35: South Dakota Revision to Tariff to be effective 1/6/2011.

Filed Date: 04/06/2011.

Accession Number: 20110406-5063.

Comment Date: 5 p.m. Eastern Time on Wednesday, April 27, 2011.

Docket Numbers: ER11-3304-000.

Applicants: Duke Energy Indiana, Inc.

Description: Duke Energy Indiana, Inc. submits tariff filing per 35.13(a)(2)(iii: Amendments to RS No. 253 to be effective 7/29/2010.

Filed Date: 04/06/2011.

Accession Number: 20110406-5025.

Comment Date: 5 p.m. Eastern Time on Wednesday, April 27, 2011.

Docket Numbers: ER11-3305-000.

Applicants: Pacific Gas and Electric Company.

Description: Pacific Gas and Electric Company submits tariff filing per 35.13(a)(2)(iii: Vaca-Dixon Solar Station WDT SGIA to be effective 4/28/2010.

Filed Date: 04/06/2011.

Accession Number: 20110406-5051.

Comment Date: 5 p.m. Eastern Time on Wednesday, April 27, 2011.

Docket Numbers: ER11-3306-000; ER11-3307-000.

Applicants: Duke Energy Corporation, Progress Energy, Inc.

Description: Duke Energy Corporation and Progress Energy, Inc. (Applicants) submitted for filing a pro forma joint Open Access Transmission Tariff (OATT) between Duke Energy Carolinas, Inc., Florida Power Corporation and Carolina Power & Light Company in Docket No. ER11-3306-000 and a pro forma Joint Dispatch Agreement between Duke Energy Carolinas LLC and Carolina Power and Light Company in Docket No. ER11-3307-000. Applicants state that the pro forma OATT and the pro forma Joint Dispatch Agreement are a companion filing to its merger request in Docket No. EC11-60-000. Applicants propose to file an OATT and a Joint Dispatch Agreement to be effective on the date that the merger is consummated.

Filed Date: 04/04/2011.

Accession Number: 20110404-5222; 20110404-5223.

Comment Date: 5 p.m. Eastern Time on Friday, June 3, 2011.

Docket Numbers: ER11-3308-000.

Applicants: Louisville Gas and Electric Company.

Description: Louisville Gas and Electric Company submits tariff filing per 35.13(a)(2)(iii: 04_06_11 EKPC NITSA to be effective 6/6/2011.

Filed Date: 04/06/2011.

Accession Number: 20110406-5073.

Comment Date: 5 p.m. Eastern Time on Wednesday, April 27, 2011.

Docket Numbers: ER11-3309-000.

Applicants: Allegheny Energy Supply Company, LLC.

Description: Allegheny Energy Supply Company, LLC submits tariff filing per 35: Allegheny Energy Supply Compliance ER11-2817 to be effective 3/1/2011.

Filed Date: 04/06/2011.

Accession Number: 20110406-5083.

Comment Date: 5 p.m. Eastern Time on Wednesday, April 27, 2011.

Docket Numbers: ER11-3310-000.

Applicants: Allegheny Energy Supply Company, LLC.

Description: Allegheny Energy Supply Company, LLC submits tariff filing per 35: Allegheny Energy Supply ER11-2633 Compliance to be effective 6/1/2011.

Filed Date: 04/06/2011.

Accession Number: 20110406-5084.

Comment Date: 5 p.m. Eastern Time on Wednesday, April 27, 2011.

Docket Numbers: ER11-3311-000.

Applicants: Public Service Company of New Mexico.

Description: Public Service Company of New Mexico submits tariff filing per 35.1: PNM Cost Based Tariff Vol No. 7 to be effective 4/7/2011.

Filed Date: 04/06/2011.

Accession Number: 20110406-5101.

Comment Date: 5 p.m. Eastern Time on Wednesday, April 27, 2011.

Docket Numbers: ER11-3312-000.

Applicants: New York Independent System Operator, Inc.

Description: New York Independent System Operator, Inc. submits tariff filing per 35.13(a)(2)(iii: NYISO Filing-Data Sharing Framework with State PSCs/ISOs/MMUs to be effective 6/5/2011.

Filed Date: 04/06/2011.

Accession Number: 20110406-5110.

Comment Date: 5 p.m. Eastern Time on Wednesday, April 27, 2011.

Docket Numbers: ER11-3313-000.

Applicants: Optim Energy Marketing LLC.

Description: Optim Energy Marketing LLC submits tariff filing per 35.1: Optim Cost Based Sales Tariff Vol No. 2 to be effective 4/7/2011.

Filed Date: 04/06/2011.

Accession Number: 20110406-5115.

Comment Date: 5 p.m. Eastern Time on Wednesday, April 27, 2011.

Docket Numbers: ER11-3314-000.

Applicants: Troy Energy, LLC.

Description: Troy Energy, LLC submits tariff filing per 35.1: Troy Initial Reactive Power Rate Schedule PJM to be effective 6/1/2011.

Filed Date: 04/06/2011.

Accession Number: 20110406-5128.

Comment Date: 5 p.m. Eastern Time on Wednesday, April 27, 2011.

Docket Numbers: ER11-3315-000.

Applicants: The Connecticut Light and Power Company.

Description: The Connecticut Light and Power Company submits tariff filing per 35.13(a)(2)(iii: CTMEEC Agreement For CONVEX Services Rate Schedule No. 582 to be effective 6/1/2011.

Filed Date: 04/06/2011.

Accession Number: 20110406-5129.

Comment Date: 5 p.m. Eastern Time on Wednesday, April 27, 2011.

Take notice that the Commission received the following electric securities filings:

Docket Numbers: ES11-23-000.

Applicants: The Detroit Edison Company.

Description: Application of The Detroit Edison Company for Authorization to Issue Short-term Debt Securities.

Filed Date: 04/06/2011.

Accession Number: 20110406-5148.

Comment Date: 5 p.m. Eastern Time on Wednesday, April 27, 2011.

Take notice that the Commission received the following land acquisition reports:

Docket Numbers: LA10-4-000.

Applicants: NextEra Energy Companies.

Description: NextEra Energy Companies Fourth Quarter 2010 Site Control Quarterly Filing submitted Out-of-Time.

Filed Date: 04/06/2011.

Accession Number: 20110406-5144.

Comment Date: 5 p.m. Eastern Time on Wednesday, April 27, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 7, 2011.
Nathaniel J. Davis, Sr.,
Deputy Secretary.

[FR Doc. 2011-9302 Filed 4-15-11; 8:45 am]

BILLING CODE 6717-01-P